DEPARTMENT OF COMMERCE

International Trade Administration

U.S.-Kingdom of Saudi Arabia (KSA) Civil Nuclear Energy Roundtable

AGENCY: International Trade Administration, U.S. Department of Commerce.

ACTION: Notice of U.S.-Kingdom of Saudi Arabia (KSA) Civil Nuclear Energy Roundtable.

Roundtable Description

The United States Department of Commerce's (DOC) International Trade Administration (ITA), with the support of the U.S. Department of Energy (DOE), is organizing a U.S.-Kingdom of Saudi Arabia (KSA) Civil Nuclear Energy Roundtable, to be held December 17-18, 2017, in Riyadh, Saudi Arabia.

The purpose of the Roundtable is to initiate a partnership process between U.S. civil nuclear energy companies and the King Abdullah City for Atomic and Renewable Energy (K.A.CARE), and between the U.S. and KSA civil nuclear industries. The Roundtable will provide an opportunity for in-depth information sharing and discussion of U.S. industry's technologies, products, and services to support the KSA's nuclear power deployment plans.

Roundtable Setting

Saudi Arabia has no nuclear reactors in operation or under construction but recently announced plans to build its first two nuclear reactors and award a construction contract for the project by the end of 2018. Adding nuclear power to its energy generation mix would allow Saudi Arabia to diversify its energy sources and respond to increased electricity demands. The development of its nuclear power program also aligns with the Kingdom's Vision 2030 plan, an economic and social reform program that aims to reduce Saudi Arabia's dependence on oil, diversify its economy, and develop public service sectors such as health, education, infrastructure, recreation, and tourism. Since 2010, Saudi Arabia has expressed interest in nuclear power for electricity generation, desalination and long-term R&D, as well as small and advanced reactor designs. To achieve its civil nuclear goals, Saudi Arabia is pursuing international partnerships to develop its legal and regulatory infrastructure, incorporate advanced technologies, and train and educate its workforce. The KSA's upcoming tender for two nuclear reactors is valued at over $10 billion and follow-on projects could be worth tens of billions more.

Roundtable Goals

The Roundtable will focus on two areas: (1) Advanced Reactor Technologies and (2) Human Capacity/Workforce Development. The goal of the Roundtable is to discuss how U.S. providers of advanced reactor technologies and workforce development services can support K.A.CARE's plans in these areas.

Advanced Reactor Technologies

Potential participants that are U.S. advanced reactor technology providers should be willing to partner with the KSA and have technology that is scheduled to be deployed in the late 2020s to early 2030s or sooner. U.S. companies in this area include providers of advanced light water small modular reactors (SMRs), high temperature gas reactors, and sodium cooled fast reactors. Advanced reactor technology providers will receive heightened consideration if they are reactor designers and can demonstrate one or more of the following attributes.

• Be a recipient of funds from the U.S. Department of Energy's (DOE) Gateway for Accelerated Innovation in Nuclear (GAIN);

• Be a Federal cost share recipient;

• Have DOE Technical Readiness Level 3 or greater;

• Have experimental work underway at a university or U.S. National Laboratory facilities.

Human Capacity/Workforce Development

Potential participants that focus on Human Capacity/Workforce Development may be U.S. academic, research, or commercial entities and should be willing to partner with the KSA. Applicants in this area should focus on the following workforce development areas and have one or more of the following attributes.

• Public education and awareness of nuclear energy and careers in science, technology, engineering and math (STEM).

○ Practitioners with proven record of developing and deploying public education programs through k-12 school systems with a focus on nuclear energy and STEM careers.

• Education and capacity-building for political and community leaders and decision-makers.

○ Practitioners with a proven track record of developing and deploying education and capacity-building programs for elected officials, community, and governmental leaders. Programs should include: (1) Public communication on nuclear energy and nuclear issues; (2) emergency planning for nuclear facilities; and (3) stakeholder engagement on nuclear energy issues.

• Vocational and technician training.

○ Providers of nuclear energy-specific training that meets U.S. national commercial nuclear training and qualification standards including, but not limited to training for non-licensed operators, radiation protection technicians, chemistry technicians, instrumentation and control technicians, mechanical maintenance technicians, electrical maintenance technicians, quality assurance specialists, welders, and non-destructive examination technicians.

• University education and research.

○ Universities with strong nuclear engineering degree program (graduate and undergraduate), a proven track record of nuclear energy R&D and an operating training/test reactor. Universities must also have strong undergraduate and graduate degree programs in Electrical, Chemical, Mechanical and Civil engineering.

• R&D collaboration for human resource development.

○ Internationally recognized research institutions that have a proven track record of developing international human resource capacity through collaborative R&D programs.

• Nuclear plant operations staffing, training, organizational development and leadership development.

○ Commercial nuclear energy facility licensee with a demonstrated record of reactor operations, training, human resource, leadership and organizational development.

○ Practitioners with a demonstrated track record of developing human capital and organizational development plans for nuclear utilities.

Roundtable Format

U.S. providers of the above technologies, products and services will engage in group discussions and networking with K.A.CARE and other KSA government officials to discuss potential partnering opportunities. Participants will meet with and present their products and services to representatives from K.A.CARE and the KSA's human resource and university community with the goal of gaining a better understanding of partnering opportunities to support KSA's civil nuclear sector.

Event Dates and Proposed Agenda

* * * * specific events and meeting times have yet to be confirmed * * * *

Day 1: Sunday, December 17

This day will begin with an opening session, followed by two parallel sessions on advanced reactor technologies and human capacity development. Each session will start with a presentation by K.A.CARE on the Government of Saudi Arabia's needs in each focus area and the framework for partnering with U.S. civil nuclear companies. Following this, participants will:

• Participate in discussions with K.A.CARE consisting of presentations and dialogues on advanced reactor technologies and human capacity/workforce development.

• Participate in networking opportunities with K.A.CARE officials.

At the conclusion of the day, there will be a networking reception with senior officials from K.A.CARE and the KSA government.

Day 2: Monday, December 18

Parallel sessions will continue, including presentations, panel sessions and discussion. At the conclusion of the day, there will be a networking reception with senior officials from K.A.CARE and the KSA government.

Participation Requirements

Applicants must sign and submit a completed Roundtable application form and satisfy all of the conditions of participation in order to be eligible for consideration. A minimum of 15 and maximum of 30 applicants will be selected to participate in the Roundtable. The Department of Commerce will evaluate applications and inform applicants of selection decisions on a rolling basis until the maximum number of participants has been selected. The first eight applicants selected are eligible to have two representatives at the Roundtable (if desired). For applications received after the first eight, there is a limit of one representative per organization. For purposes of this event, “U.S. industry” refers to U.S. companies, academic or research institutions, or trade associations.

Conditions for Participation

• Applicants must submit a completed registration form signed by a company, trade association, or academic or research institution official, together with supplemental materials, including adequate information on the organization's products and/or services, primary market objectives, and goals for participation.

• If the DOC receives an incomplete application, the DOC may reject the application, request additional information, or take the lack of information into account in its evaluation.

• Application forms must be received by the deadline noted in the event Federal Register Notice.

• Each applicant must certify that their organization is not majority owned or controlled by a foreign government entity (or foreign government entities).

• Applicants must certify that the products or services it seeks to promote through the Roundtable are either produced in the United States, or, if not, marketed under the name of a U.S. firm and have demonstrable U.S. content as a percentage of the value of the finished product or service.

• In the case of a trade association, the applicant must certify that it will only be representing companies during the Roundtable that satisfy the certification requirement in the bullet above.

• In the case of an academic or research institution, the applicant must certify that as part of its activities at the Roundtable, it will represent the interests of the organization's U.S.-based operations.

In addition, applicants must:

• Certify that the export of the products and services that it wishes to export through the Roundtable would be in compliance with U.S. export controls and regulations;

• Certify that it has identified to the Department of Commerce any business matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this event, and (2) maintain and enforce a policy that prohibits the bribery of foreign officials.

Selection Criteria

Selection will be based on the following criteria:

• Suitability of the company's (or, in the case of another organization, represented companies' or constituents') products or services to the KSA market.

• The company's (or, in the case of another organization, represented companies' or constituents') potential for business in the KSA, including likelihood of exports resulting from the Roundtable.

• Consistency of the applicant company's (or, in the case of another organization, represented companies' or constituents') goals and objectives with the stated Roundtable scope.

• Applicants will be evaluated on their ability to meet the Roundtable focus area criteria (advanced reactor technologies and human capacity/workforce development).

Applicants are encouraged to send representatives at the CEO, President, Vice President, or Senior VP level. For academic and research institutions, representatives should be knowledgeable about their organization's program offerings and capability to partner internationally.

Referrals from political organizations and any documents containing references to partisan political activities (including political contributions) will be removed from an applicant's submission and will not be considered.

Fees and Expenses

After a company or organization has been selected to participate in the Roundtable, a payment to the DOC in the form of a participation fee is required. The fee covers direct and indirect costs related to DOC support for organizing the Roundtable.

• The fee to participate in the Roundtable is $1,740 for a large company, trade association, or a university or research institution. The fee to participate in the Roundtable is $1,313 for a small or medium-sized company (SME).

• The fee for each additional representative (large company, trade association, university/research institution) $1,740. The fee for each additional representative (SME) is $1,313.

• To apply for the Roundtable, complete the event application at https://emenuapps.ita.doc.gov/ePublic/TM/8R0T.

Participants selected for the Roundtable will be expected to pay for the cost of all personal expenses, including, but not limited to, international travel, lodging, meals, transportation, communication, and incidentals, unless otherwise noted. In the event that the Roundtable is cancelled, no personal expenses paid in anticipation of the event will be reimbursed. However, participation fees for a cancelled Roundtable will be reimbursed to the extent they have not already been expended in the anticipation of the event.

Visas

All attendees are responsible for handling their own visa processing to enter the KSA. Any private sector visitor to the KSA must submit an original, signed passport valid for six months beyond their stay in the KSA, with at least two adjacent, blank passport pages available for Saudi visa stamp and Saudi entry stamps. Amendment pages in the back of the passport are not suitable for a Saudi Arabia visa. A Saudi visa is usually processed in 4 to 7 business days after all materials, including signed enjaz forms, have been received by the visa processing company. There are numerous companies with which the KSA Embassy in Washington, DC works to handle visa applications. Accepted applicants will receive information on how to process their visa application.

All visitors to the KSA also require a letter of invitation from a Saudi partner. DOC will work with K.A.CARE to facilitate a Letter of Invitation for Roundtable participants.

Timeframe for Recruitment and Participation

Recruitment for participation in the Roundtable will be conducted in an open and public manner, including publication in the Federal Register, posting on the DOC trade mission calendar, and notices to industry trade associations and other multiplier groups. The recruitment period will end two weeks after publication in the Federal Register or when recruitment is at capacity. The Department of Commerce will evaluate applications and inform applicants of selection decisions on a rolling basis until the maximum number of participants has been selected. Applications received after December 8, 2017, will be considered only if space and scheduling permit.

Contacts

Jonathan Chesebro, Industry & Analysis, Office of Energy and Environmental Industries, Washington, DC, Tel: (202) 482-1297, Email: jonathan.chesebro@trade.gov

Devin Horne, Industry & Analysis, Office of Energy and Environmental Industries, Washington, DC, Tel: (202) 482-0775, Email: devin.horne@trade.gov

Edward A. O'Malley,
Director, Office of Energy and Environmental Industries.

[FR Doc. 2017-26225 Filed 12-5-17; 8:45 am]

BILLING CODE 3510-DR-P